DEPARTMENT OF HEALTH AND HUMAN SERVICES

Administration for Children and Families

Proposed Information Collection Activity; Comment Request

Proposed Projects:

Title: Application Requirements for the Low Income Home Energy Assistance Program (LIHEAP) Model Plan and Program Integrity Assessment

OMB No.: 0970-0075

Description: States, including the District of Columbia, tribes, tribal organizations, and territories applying for LIHEAP block grant funds must submit an annual application (Model Plan) that meets the LIHEAP statutory and regulatory requirements prior to receiving Federal funds. In prior years, in addition to the Model Plan, each grantee was also required to submit a Program Integrity Assessment Supplement (PIAS) every year, as part of their application. The proposed new model plan will combine the content of these two forms into one form, eliminating duplicative questions and streamlining the submission process. The proposed new format of the model plan is also a departure from the previously-approved version. The new model plan will become an electronic form, to be submitted through the On-Line Data Collection System (OLDC), which is already being used by all LIHEAP grantees to submit other required LIHEAP forms. The new model plan will also provide grantees the option to respond to many questions by selecting one or more check-box responses, rather than providing a free-form text response. Grantees will still have the ability to enter free form text if none of the provided options are applicable. This new re-formatting will reduce the time grantees will spend on completing the form. It will also provide the Office of Community Services (OCS) with the ability to collect and analyze consistent data across all grantees in a streamlined manner. This will improve the information provided by OCS in the annual LIHEAP Report to Congress and other related reports to the U.S. Department of Health and Human Services and the Office of Management and Budget.

In order to ensure that data are reported in a consistent format by all grantees, OCS will now require that the new version of the model plan be used by all grantees. Grantees will no longer have the option of submitting their annual application using alternate formats. Additionally, grantees will no longer have the option to submit an abbreviated model plan. All entries from each grantee's first submission of the model plan in OLDC will be saved and re-populated into the form for the following fiscal year's applications. Thus, after the first year, grantees will only need to make updates to the prior year's entries. Grantees will still be able to submit attachments as needed.

Presidential Executive Order 13520, reducing Improper Payments and Eliminating Waste in Federal Programs, issued in November 2009, encourages Federal agencies to take deliberate and immediate action to eliminate fraud and improper payments. As part of the review of programs subsequent to this executive order, HHS has determined that additional information from each administering agency is necessary to assess grantee measures that are in place to prevent, detect or address waste, fraud and abuse in LIHEAP programs.

The revised model plan can be viewed on the OCS Web site at: http://www.acf.hhs.gov/programs/ocs/programs/liheap.

Respondents: State, Tribal or Territory Governments.

Annual Burden Estimates
Instrument | Number of respondents | Number of responses per respondent | Average burden hours per response | Total burden hours
Detailed Model Plan. | 210 | 1 | 2 | 420

Estimated Total Annual Burden Hours: 420.

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade, SW., Washington, DC 20447, Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2014-01454 Filed 1-24-14; 8:45 am]

BILLING CODE 4184-01-P